DEPARTMENT OF TRANSPORTATION

Federal Highway Administration

Notice To Rescind Notice of Intent To Prepare an Environmental Impact Statement: Multiple South and East Texas Counties, State of Texas

AGENCY: Federal Highway Administration (FHWA).

ACTION: Rescind Notice of Intent to prepare an Environmental Impact Statement.

SUMMARY: The FHWA is issuing this notice to advise the public that the Notice of Intent to prepare a Tier One Environmental Impact Statement (EIS) for the proposed extension of Interstate Highway 69 (I-69) from near Laredo and the Lower Rio Grande Valley is rescinded. The original notice dated January 15, 2004 was published in the Federal Register Volume 69, number 10 and on pages 2382-2383. The original notice can be viewed electronically here: http://edocket.access.gpo.gov/2004/04-866.htm.

FOR FURTHER INFORMATION CONTACT: Mr. Gregory S. Punske, P.E., District Engineer (District B, South), Federal Highway Administration, Texas Division, 300 East 8th Street, Room 826, Austin, Texas 78701. Telephone (512) 536-5960.

SUPPLEMENTARY INFORMATION: The FHWA, in cooperation with the Texas Department of Transportation (TxDOT), published a Notice of Intent in the Federal Register on January 15, 2004 (Volume 69, No. 10 Page 2382) and a Notice of Intent correction published on January 30, 2004 (Volume 69, No. 20, Page 4557) to prepare a Tier One EIS for the proposed extension of I-69 from near Laredo and the Lower Rio Grande Valley. The proposed Tier One EIS was to evaluate the National High Priority Corridor 18 and Corridor 20 systems. In addition, I-69 was also being evaluated as part of the Trans-Texas Corridor (TTC) system which would have included lanes for passenger vehicles, separate lanes for trucks, rail lines, and a utility corridor.

The I-69/TTC Tier One DEIS was released for public review and comment on November 13, 2007. A Notice of Availability (NOA) was published in the Texas Register on December 11, 2007 and in the Federal Register on December 14, 2007. TxDOT held public hearings on the Tier One DEIS in February and March of 2008. In June 2008, TxDOT informed the FHWA of their intent to eliminate the Tier One New Location Alternative and not advance it as an alternative for the I-69/TTC project. TxDOT further recommended that only the use of existing and planned transportation facilities be advanced as the preferred alternative. The basis for this decision centered on consideration of environmental and transportation planning factors in combination with the technical comments received on the Tier One DEIS. Also, on January 6, 2009, TxDOT unveiled Innovative Connectivity in Texas/Vision 2009 which defined a new vision for TxDOT's corridor development process and resulted in the retirement of the Trans-Texas Corridor concept. As a result of the retirement of the TTC concept and TxDOT's intent to only evaluate the use of existing and planned facilities to develop I-69, the project described and being evaluated under the above mentioned notices is no longer under consideration. As a result, the above mentioned notices are rescinded.

Issued on: January 14, 2011.
Gregory S. Punske,
District Engineer (District B, South), Austin, Texas.

[FR Doc. 2011-1441 Filed 1-24-11; 8:45 am]

BILLING CODE P